DEPARTMENT OF HEALTH AND HUMAN SERVICES

Centers for Disease Control and Prevention

[CDC-2013-0021; NIOSH 245-A]

Notice of Request for Comments on Chapters 6 and 8 of the NIOSH document titled: “Criteria for a Recommended Standard: Occupational Exposure to Diacetyl and 2,3-pentanedione”

AGENCY: National Institute for Occupational Safety and Health (NIOSH), Centers for Disease Control and Prevention (CDC), Department of Health and Human Services (HHS).

ACTION: Request for Comments.

SUMMARY: The National Institute for Occupational Safety and Health (NIOSH) of the Centers for Disease Control and Prevention (CDC) is inviting comments on Chapter 6 and a new section of Chapter 8 of the draft document, “Criteria for a Recommended Standard: Occupational Exposure to Diacetyl and 2,3-pentanedione.” To view the notice and related materials, visit http://www.regulations.gov and enter CDC-2013-0021 in the search field and click “Search.” Public Comment Period: Comments must be received by February 10, 2014.

Status: Comments are being sought from individuals including scientists and representatives from various government agencies, industry, labor, and other stakeholders, and also the public.

ADDRESSES: You may submit comments, identified by CDC-2013-0021 and Docket Number NIOSH 245-A by either of the following two methods:

Federal rulemaking portal: http://www.regulations.gov. Follow the instructions for submitting comments.

Mail: NIOSH Docket Office, Robert A. Taft Laboratories, 4676 Columbia Parkway, MS-C34, Cincinnati, Ohio 45226.

Instructions: All information received in response to this notice must include the agency name and docket number [CDC-2013-0021; NIOSH 245-A]. All relevant comments received, including any personal information provided, will be posted without change to http://www.regulations.gov. All electronic comments should be formatted as Microsoft Word. Please make reference to CDC-2013-0021 and Docket Number NIOSH 245-A. To access the docket, read background documents or read comments, go to http://www.regulations.gov. To access any prior background documents or previous comments received please go to NIOSH Docket 245 (http://www.cdc.gov/niosh/docket/archive/docket245.html). All information received in response to this notice will be available for public examination and copying at the NIOSH Docket Office, 4676 Columbia Parkway, Cincinnati, Ohio 45226.

FOR MORE INFORMATION CONTACT: Lauralynn Taylor McKernan, ScD CIH NIOSH, 4676 Columbia Parkway C-14, Cincinnati, OH 45226, telephone (513) 533-8542, Fax (513) 533-8588, email LMcKernan@cdc.gov.

Dated: December 19, 2013.
John Howard,
Director, National Institute for Occupational Safety and Health, Centers for Disease Control and Prevention.

[FR Doc. 2013-30900 Filed 12-24-13; 8:45 am]

BILLING CODE 4163-19-P